DEPARTMENT OF HOUSING AND URBAN DEVELOPMENT

[Docket No. FR-4630-FA-19]

Housing Opportunities for Persons With AIDS Program; Announcement of Funding Award FY 2001

AGENCY: Office of the Assistant Secretary for Community Planning and Development, HUD.

ACTION: Notice.

SUMMARY: In accordance with section 102(a)(4)(C) of the Department of Housing and Urban Development Reform Act of 1989, this notice announces the funding decisions made by the Department under the Fiscal Year 2001 Housing Opportunities for Persons with AIDS (HOPWA) program. The notice announces the selection of 22 renewal applications, three new project applications, and three technical assistance applications under the three 2001 HOPWA national competitions which were announced under the Super Notice for HUD's Housing Community Development and Empowerment Programs and published in the Federal Register on February 26, 2001. The notice contains the names of award winners, describes grant activities and provides the amounts of the awards.

FOR FURTHER INFORMATION CONTACT: David Vos, Director, Office of HIV/AIDS Housing, Department of Housing and Urban Development, Room 7212, 451 Seventh Street, SW., Washington, DC 20410, telephone (202) 708-1934. To provide service for persons who are hearing-or-speech-impaired, this number may be reached via TTY by Dialing the Federal Information Relay Service on 1-800-877-TTY, 1-800-877-8339, or 202-708-2565. (Telephone numbers, other than “800” TTY numbers are not toll free.) Information on HOPWA, community development and consolidated planning, and other HUD programs may also be obtained from the HUD homepage on the World Wide Web. In addition to this competitive selection, 105 jurisdictions received formula based allocations during the 2001 fiscal year for $229.372 million in HOPWA funds. Descriptions of the formula programs is found at www.hud.gov/offices/cpd/aidshousing.

SUPPLEMENTARY INFORMATION: The purpose of the HOPWA program competition was to award project grants for the renewal continuing activities or for new projects that provide housing assistance and supportive services. Grants are made under two categories of assistance: (1) grants for special projects of national significance which, due to their innovative nature or their potential for replication, are likely to serve as effective models in addressing the needs of low-income persons living with HIV/AIDS and their families; and (2) grants for projects which are part of long-term comprehensive strategies for providing housing and related services for low-income persons living with HIV/AIDS and their families in areas that do not receive HOPWA formula allocations. The purpose of the technical assistance competition was to select qualified providers to support the national goal for the sound management of the HOPWA program.

Under this year's competition HUD was required to renew all existing grants that were expiring in 2001 and if funding remained after funding eligible HOPWA renewal projects, HUD would consider applications for new HOPWA projects. A total of $21.5 million was awarded to the 22 eligible renewal grants. The remaining amount of $3.9 million, plus $107,526 in recaptured funds was made available to the three highest rated HOPWA competitive applications for new projects.

The HOPWA assistance made available in this announcement is authorized by the AIDS Housing Opportunity Act (42 U.S.C. 12901), as amended by the Housing and Community Development Act of 1992 (Pub. L. 102-550, approved October 28, 1992) and was appropriated by the HUD Appropriations Act for 2001. The competition was announced in a Super Notice for HUD's Housing Community Development and Empowerment Programs published in the Federal Register on February 26, 2000 (66 FR 12223). Each application was reviewed and rated on the basis of selection criteria contained in that NOFA.

Public Benefit

The award of HOPWA funds to the 22 renewal projects, three new projects and three Technical Assistance awards will significantly contribute to HUD's mission in supporting projects that provide safe, decent and affordable housing for persons living with HIV/AIDS and their families who are at risk of homelessness. The projects proposed to use HOPWA funds to support the provision of housing assistance to an estimated 2,777 low-income people with HIV/AIDS and their families. In addition, an estimated 2,985 persons with HIV/AIDS are expected to benefit from some form of supportive service or housing information referral service that will help enable the client to maintain housing and avoid homelessness. The recipients of this assistance are expected to be very-low income or low-income households. These 25 applicants also documented that the Federal funds awarded in this competition, $25.5 million, will leverage an additional $38 million in other funds and non-cash resources including the contribution of volunteer time in support of these projects, valued at $10/hour. The leveraged resources will expand the HOPWA assistance being awarded by 149 percent.

A total of $25.5 million was awarded to 25 organizations to serve clients in the twenty-four listed States and $1.9 million for technical assistance activities across the nation.

In accordance with section 102(a) (4) (C) of the Department of Housing and Urban Development Reform Act of 1989 (103 Stat.1987, 42 U.S.C. 3545), the Department is publishing details concerning the recipients of funding awards, as follows:

FY 2001 HOPWA Renewal Awards by State

Alabama

AIDS Alabama, Inc. of Birmingham will receive a HOPWA renewal grant for $899,180 to continue the Alabama Rural AIDS Project (ARAP) to: (1) Outreach to eligible HIV positive, low-income persons; (2) link them with medical and supportive services, and (3) house (ultimately permanently) those HIV-positive, low-income persons who are homeless or marginally housed in the state's 35 most rural counties. ARAP will house 300 low-income, homeless persons with HIV/AIDS and 300 additional family members and provide 1,400 persons with supportive services over the three years of the project. AIDS Alabama will partner in this project with AIDS Services Centers of Anniston, AIDS Action Coalition of Huntsville, Montgomery AIDS Outreach, Mobile AIDS Support Services, East Alabama AIDS Outreach of Auburn, and West Alabama AIDS Outreach of Tuscaloosa. All partners are members of the AIDS Service Organization Network of Alabama. For information contact: AIDS Alabama, Inc. P.O. Box 55703; 3521 7th Avenue South Birmingham, AL 35222. Mr. Randall H. Russell, MSW, LGSW Executive Director; Phone: (205) 324-9822; Fax: (205) 324-9311; E-mail: randall@aidsalabama.org.

Arizona

The Pima County, Community Services Department will receive a HOPWA renewal grant in collaborative effort of Pima County and two project sponsors: the Southern Arizona AIDS Foundation (SAAF), and the City of Tucson. The project is designed to create a continuum of care for people who are low-income and HIV+, and their families, by filling gaps in both housing and services in Tucson and Pima County. Recognizing the importance of stable housing, the two primary goals of the Positive Directions project are: (1) to increase independence through subsidized, supportive housing; and (2) to maximize self-sufficiency through intensive, personalized services. The project addresses these through three key components: transitional housing; long-term rent subsidies; and support and referral services through intensive case management. For information contact: Pima County, Community Services Department, 32 North Stone Avenue, Suite 1600, Tucson, AZ 85701; Gary Bachman, (520) 740-5205 or by E-mail: gbachman@csd.co.pima.az.s.

California

In Los Angeles, the West Hollywood Community Housing Corporation will receive a HOPWA renewal grant for $630,535. Funds will be used to continue the Los Angeles Consortium for Service-Coordinated AIDS Housing, a collaboration of four nonprofit agencies providing permanent, supportive housing to very low-income persons living with HIV/AIDS. The three other partner agencies are the Hollywood Community Housing Corporation, Project New Hope and the Skid Row Housing Trust. Funding supports an Enhanced Management Model program, as well as expand services that promote long-term residential stability with residential and vocational service coordinators and an on-site learning program focused on computer skills. The project makes use of life skills development, and employment training and placement opportunities with permanent affordable housing to reach residents in at least 468 units at 26 sites over this grant period. For information contact: West Hollywood Community Housing Corporation, 8285 Sunset Blvd., Suite 3 West Hollywood, CA 90046. Mr. Lee Meyers, Director of Resident Services; Phone: (323) 650-8771 x13; Fax: (323) 650-4745; E-mail: lee@whchc.org.

The County of San Diego, Department of Housing and Community Development (DHCD) will receive a HOPWA renewal grant for $308,116 to continue the La Posada Project. DHCD works with the County Health and Human Services Agency and the Office of AIDS Coordination. The project provides service enriched housing opportunities throughout San Diego County to homeless and very low-income HIV positive women and their children who have not participated in either the HIV or the homeless service delivery systems. The program provides operating costs, addiction services coordination, resident services coordination, and longitudinal outcome evaluation. The original grant supported the rehabilitation of 24-units in apartment complexes, which focus on needs for women and their children. The project will also continue to provide services to a minimum of six to twelve families at Fraternity House, Inc., a licensed residential care facility, and 12 families at La Posada Apartments with services from South Bay Community Services. An additional 100 clients will receive out-patient addiction counseling and recovery services and case management support through Stepping Stone of San Diego, Inc. For information contact: County of San Diego Department of Housing and Community Development, 3989 Ruffin Road, San Diego, CA 92134-1890. Ms. Marilee Hansen, Housing Program Analyst; Phone: (858) 694-8712; E-mail: mhanse@co.san-diego.ca.us.

In San Francisco, Lutheran Social Services of Northern California will receive a HOPWA renewal grant for $1,014,080 to continue The Bridge Project, a six-agency collaboration that provides transitional housing while addressing the complex service needs of indigent, multiply-diagnosed clients living with HIV/AIDS. The goals of the Bridge Project are threefold: (1) Increase the quantity and quality of housing for homeless, multiply-diagnosed persons with HIV/AIDS; (2) Provide direct access to health care, substance abuse counseling, mental health care, and benefits counseling for underserved multiply-diagnosed populations, and (3) Deliver these services through an integrated system of care which is cost-effective and meets the complex needs of the multiply-diagnosed client. With success in achieving its original goals, a renewal grant for one of the Multiple Diagnosis Initiative (MDI) Projects from HUD will enable this partnership to continue providing stable housing to current number of participants. For information contact: Lutheran Social Services of Northern California, 433 Hegenberger Road, #103 Oakland, CA 94621; Mr. Kevin Fautaux, Director, San Francisco Office; Phone: (415) 581-0891 ext. 103 Fax: (415) 581-0898; E-mail: LSSkfaut@aol.com.

In San Francisco, the Bernal Heights Neighborhood Center, Housing Services Affiliate will receive a HOPWA renewal grant for $692,648 to continue the operation of Positive MATCH. As one of the Multiple Diagnosis Initiative (MDI) Projects, this effort has provided a nationally significant model of integrated services and care for homeless multiply diagnosed mothers and children living with HIV. The innovative network of services and housing provides a specialized continuum of care for families that comprehensively addresses the needs of the family prior to and after the death of the infected parent. The project is an innovative collaborative project between a housing developer and four social service agencies skilled at providing social, legal, and mental health services for multiply diagnosed homeless women with HIV and their children. In October of 2001, the collaborative will complete the rehabilitation of the seven unit multi-bedroom permanent housing facility. Positive MATCH is seeking renewal funding to continue the provision of the integrated and replicable continuum of care that ensures permanent exits from homelessness. For information contact: Housing Services Affiliate-Bernal Heights Neighborhood Center, 515 Cortland Ave., San Francisco, CA 94110. Ms. Mary Dorst, Housing Project Manager; Phone: (415) 206-2140 ext. 147; Fax: (415) 648-0793; E-mail: bernaldev@aol.com.

Connecticut

The City of Bridgeport, Central Grants Office, will receive a HOPWA renewal grant for $1,312,821. The City will be coordinating with seven (7) project sponsors, in continuing support to 50 households under one of the Multiple Diagnosis Initiative (MDI) Projects. Under the Bridgeport AIDS/HIV Housing Initiative, the seven project sponsors include Prospect House, Bethel Recovery Center, and Alpha Home who are the housing providers; Helping Hand Center, Catholic Family Services, and Evergreen Network who are support service providers, and the Connecticut AIDS Residence Coalition which provides technical assistance and resource identification services. Based on the number of people served from the original HOPWA grant, these organizations anticipate that it will provide emergency services to a minimum of 175 multiple diagnosed persons with HIV/AIDS, and provide housing services to 60 multiply diagnosed individuals and families, through the project's unique Transitional Living Program (TLP). For information contact: City of Bridgeport, Central Grants Office, 999 Broad Street, Bridgeport, CT 06604; Kathleen Hunter, Assistant Director, Social Services; Phone (203) 576-8475, Fax (203) 567-8405; E-mail: huntek0@ci.bridgeport.ct.us.

District of Columbia

The Whitman-Walker Clinic, Inc. of Washington, DC will receive a HOPWA renewal grant for $1,139,255 to continue the Bridge Back Program a residential treatment facility for multiply diagnosed men and women with HIV/AIDS, substance abuse, and persistent mental illness. DC Bridge Back offers six months of intensive addiction treatment, medical, and psychosocial services for up to eight residents at a time. Bridge Back is a safe and supportive link back to appropriate housing in the community for people living with HIV/AIDS who suffer from severe substance abuse and chronic mental illness. Staff and clients work collaboratively to establish a treatment plan while in the program, and a discharge plan including appropriate housing and accessibility of supportive services in the community upon leaving the program. For information contact: Whitman-Walker Clinic, Inc., 1407 S. Street, NW., Washington, DC 20009. Ms. Mary L. Bahr, Associate Executive Director; Phone: (202) 797-3515; Fax: (202) 797-3504; E-mail: mbahr@wwc.org.

Florida

The City of Key West Community Development Office will receive a HOPWA renewal grant for $1,188,500 to continue their housing voucher program for persons living with HIV/AIDS in Monroe County. The City partners with AIDS Help, Inc. in providing assistance to clients in this high cost housing market. This Special Project of National Significance was modeled after HUD's Section 8 program with support to provide for independence and self-determination for clients. The program serves an estimated 50 households each year through tenant-based rental assistance and residency in housing facilities. Additionally, for disabled persons who experience improved health due to medical treatment advances, support from other sources includes back to work training in collaboration with the Florida Keys Employment and Training Council. For information contact: City of Key West Community Development Office, 1403 12th Street, Key West, FL 33040. Ms. Lee-Ann Broadbent, Program Administrator; Phone: (305) 292-1221; Fax (305) 292-1162.

Georgia

The City of Savannah, Community Planning and Development Division, will receive renewal funding of $1,229,636 to continue operating Project House Call. The City partners with Union Mission, Inc., and two project partners—Georgia Legal Services Program and Hospice Savannah—and operate activities within the 10-member Savannah-Chatham AIDS Continuum of Care. Assistance is based on the use of a 10-unit community residence and short-term housing payments for 75 households. Under the original grant, this program prevented homelessness for 213 unduplicated individuals with HIV/AIDS who enrolled in Project House Call and received the provision of home-based services. The program provides services in the homes of PLWA/A's who might not otherwise have access to services within the Chatham/Effingham County areas. Project House Call is a lifeline for the population it serves, linking them with primary medical care, legal services, transportation assistance, substance abuse counseling, group therapies, and hospice services. For information contact: Community Planning and Development Division, Office of the City Manager, P.O. Box 1027, Savannah, GA 31402. Ms. Taffanye Young, Director; Phone: (912) 651-6520; Fax: (912) 651-6525; E-mail: Taffanye_Young@ci.savannah.ga.us.

Illinois

Cornerstone Services, Inc., of Joliet, will receive a HOPWA renewal grant of $789,160 to continue to provide scattered site permanent housing with supportive services for 16 households with persons living with HIV/AIDS who also have mental illness and who may be homeless. The program is located in Joliet and Cornerstone has partnered with the AIDS Ministry of Illinois (AMI), Stepping Stones (substance abuse treatment center) and Metro Infectious Disease Consultants (MIDC) to provide persons with HIV/AIDS and mental illness by offering a comprehensive array of services promoting choice, dignity, and the opportunity to live and work in the community. For information contact: Cornerstone Services, Inc., 777 Joyce Road, Joliet, IL 60436. Ms. Bette J. Reed Phone: (815) 741-6743; Fax: (815) 723-1177; E-mail: breed@cornerstoneservices.org.

Kentucky

The Division of Community Development for the Lexington-Fayette Urban County Government will received $1,362,860 to continue the AVOL AIDS Housing Program. This program provides housing, related case management, education and referrals, as well as transitional and supportive housing services for persons living with HIV/AIDS in Central and Eastern Kentucky. Activities are based at two housing facilities, Rainbow Apartments and Solomon House. Rainbow Apartments is a transitional housing program designed to respond to persons with HIV/AIDS who are homeless or at risk of homelessness and in need of a spectrum of supportive services while they work through issues that may have contributed to their homelessness. Solomon House is a community residence for individuals who require personal care, supervision and supportive services following an acute medical episode or who are in the advanced stages of their illness. Over the three year grant period, this program will serve 75 persons with HIV/AIDS through the housing facilities and an additional 300 individuals will receive housing information services. For information contact: Division of Community Development, Lexington-Fayette Urban County Government, 200 East Main Street Lexington, KY 40507. Ms. Irene Gooding, Grants Manager; Phone: (859) 258-3079; Fax: (859) 258-3081; E-mail: ireneg@lfucg.com.

Louisiana

UNITY for the Homeless of New Orleans will receive a HOPWA renewal grant for $1,216,896 to continue a program by six sponsor agencies, working within the community's extensive and well-established homeless continuum of care system to provide an integrated range of services and housing for persons with HIV/AIDS and their families who are homeless or at risk of becoming homeless. The Sponsors are the New Orleans AIDS Task Force, Project Lazarus, Children's Hospital FACES, Volunteers of America, Belle Reve and United Services for AIDS Foundation. The range of assistance to be provided includes: case management, mental health counseling, outreach services, day services, specialized employment services for person able to return to work, in-home and center-based respite care and residential substance abuse treatment for 18 individuals and two families. Direct housing support includes: residence at a care facility for 24 persons who are at the end stage of their illness, short-term rent, mortgage, utility assistance for 60 persons, and emergency shelter for 30. These AIDS housing efforts are also integrated with other homeless assistance programs operated by 45 agencies and coordinated through the City's continuum of care. For information contact: UNITY for the Homeless 2475 Canal Street, Suite 300 New Orleans, LA 70119; Ms. Margaret Reese, Executive Director; Phone: (504) 821-4496 ext.107; Fax: (504) 821-4709; E-mail: pegreese@aol.com.

Massachusetts

The AIDS Housing Corporation of Boston will receive a grant of $928,752 to continue SHARE 2000+, a cooperative partnership designed to meet the needs of HIV/AIDS housing programs and consumers in Greater Boston. SHARE 2000+ consists of four components: the Direct Care Relief Program, the Staff Development Program, the Donations Assistance Program, and the Staff Training Program. First funded in 1995, the program design is an innovative approach to capitalizing on existing expertise in the HIV/AIDS provider community and sharing resources to augment the efficiency and capacity of HIV/AIDS housing programs. Over the course of the grant period, SHARE 2000+ will provide services to 980 individuals and offer 4,000 hours of relief staffing. Share 2000+ consists of four core program components, representing four non-profit human service agencies: Direct Care Relief Program: Justice Resource Institute/JRI Health; Donations Assistance Program: Massachusetts Coalition for the Homeless; Staff Development Program: Victory Programs, Inc.; and Staff Training Program: AIDS Action Committee. For information contact: AIDS Housing Corporation, 29 Stanhope Street Boston, MA 02116. Joe Carleo Executive Director; Phone: (617) 927-0088 x31; Fax: (617) 927-0852; E-mail: jcarleo@ahc.org.

Maryland

The City of Baltimore, Department of Housing and Community Development, Office of Homeless Services will receive a HOPWA renewal grant for $1,363,136 to continue Back to Basics (B2B), a comprehensive case management program serving families in the Baltimore, MD who are dealing with the issues of HIV/AIDS, who are newly diagnosed (or newly disclosing their HIV status), who are in crisis, and who voluntarily elect to participate in an intensive case management program. Begun with the support of a 1998 SPNS grant, the goal is to empower families by helping them initially to meet their basic needs, such as food, clothing, and housing. Over time, help will be extended to develop client resources and skills to access the necessary healthcare and services to function as a unit, to maintain housing and economic stability in a safe environment and to live productive lives, for as long as possible. For information, contact: Baltimore Office of Homeless Services, 417 E. Fayette Street Room 1211 Baltimore, MD 21202. Ms. Leslie Leitch Director, Phone: (410) 396-3757; Fax: (410) 625-0830; E-mail: leslie.leitch@baltimorecity.gov.

New Hampshire

Harbor Homes, Inc. of Nashau, New Hampshire will receive a HOPWA renewal grant for $447,057 to continue a HOPWA program that serves Hillsborough County, with the exception of Manchester. This area has an estimated 500 persons living with HIV/AIDS. The Southern New Hampshire HIV/AIDS Task Force, the only HIV/AIDS service provider in the area, is the designated Project Sponsor. The program will continue to provide emergency rental and utility assistance and supportive services, including barrier reduction, to a minimum of 391 persons living with HIV/AIDS over the three year period of the grant. Preference will be given to those who are homeless, in imminent danger of homelessness and/or those with dual or multiple diagnoses. For information contact: Harbor Homes, Inc., 12 Amherst Street, Nashau, NH, 03064. Peter Kelleher, Executive Director, Phone (603) 882-3616; Fax (603) 595-7414; E-mail kelleher@harhomes.org.

New Mexico

The Santa Fe Community Housing Trust will receive a HOPWA renewal grant for $1,286,000 to continue a Reentry Housing Strategies Program to assist persons living with HIV/AIDS (PLWAs) to transition back into a productive life. The program makes use of homeownership support for 14 households each year and recognizes that for some clients, the longevity and future life expectancy of PLWAs has changed significantly with the advent of new medical treatments. The purpose of the reentry program is to strategize a permanent solution to housing and income stabilization by assisting people to design their own reentry plan. It covers job training, educational prospects, and one-on-one counseling is provided to assist the clients to contact creditor and clean up credit issues. The reentry program makes homeownership possible and affordable through a mutual self help savings effort for downpayments and through leveraging community bank assistance for home purchases. The Trust issues loans or notes and has leveraging arrangements for over $8 million through area banks. Under the original grant, homeownership has been shown to be a significant incentive for clients in encouraging them to adhere to their difficult medical regimen, to pursue employment opportunities, and to transition into mainstream living. For information contact: Santa Fe Community Housing Trust, PO Box 713, Santa Fe, NM 87504-0713; Ms. Sharron L. Welsh, Executive Director; Phone: 505 989-3960; Fax: (505) 982-3690; E-mail: sfcht505@aol.com.d

New York

The Hudson Planning Group, Inc. will receive a HOPWA renewal grant for $451,700 to continue a resource identification program of shared financial management services for a New York City network of AIDS housing agencies and other service providers. The project, Management Services Organization (MSO), is presently serving two housing providers, Harlem United Community AIDS Center and Housing Works, Inc., through shared staff and technology that improves the infrastructure of nonprofit management. The use of MSO management tools, standard assessment, operating and reporting procedures, has resulted in more efficient use of management resources and higher levels of budgeting and planning advice in making use of financial data. The continuing project will include support for other non-profit, community based AIDS Services Organizations (ASOs), such as the Callen Lorde Community Health Center, the AIDS Day Services Association of New York (VidaCare subsidiary) and Hope Community, Inc., and is expected to reach nine providers over the next three years. This shared services model will also be tested for replication in other communities to promote similar management collaborations to establish, coordinate and develop housing assistance resources in those areas. In New York City, approximately 2,500 persons with HIV/AIDS will be served by the agencies participating in this project. For information contact: Hudson Planning Group, Inc., 180 Varick St., 16th Floor, New York, NY 10014; Mr. David Terrio, Managing Director; Phone: (212) 627-7900 x219; Fax: (212) 627-9247; E-mail: Dterrio@BurchmanTerrio.com.

Rhode Island

The Rhode Island Housing and Mortgage Finance Corporation (RIH), will continue its highly successful operations of a multi-faceted housing and supportive service program for persons living with HIV/AIDS (PLWAs) through a HOPWA renewal grant for $1,212,153. The grant sponsors, House of Compassion (HOC) located in northern RI, and AIDS Care Ocean State (ACOS) located in Providence will maintain a continuum of care for single adults and families affected by HIV/AIDS. The program provides supportive services, housing, and housing information services. Specific programs include the operation of two group homes, 12 scattered site apartments, and supportive services for all clients of both agencies. The past HOPWA grant has enabled the development of a seamless delivery of services ranging from housing referral to independent living and then supportive housing and related services. For information contact: Rhode Island Housing and Mortgage Finance Corporation; 44 Washington Street Providence, RI 02903. Ms. Susan Bodington, Director of Housing Policy; Phone: (401) 457-1286 Fax: (401) 457-1140 E-mail: sbodington@rihousing.com.

Washington

The Bailey-Boushay House project of the Virginia Mason Medical Center will receive a HOPWA renewal grant for $950,000 to sustain supportive services for people living with HIV/AIDS. Bailey-Boushay House is a nationally recognized care facility, which has provided intensive residential nursing health care and adult day care to more than 2,500 individuals since 1992. The goal of the project is to maintain and/or improve the behavioral stability of program participants and residents of the facility, enhancing their ability to obtain medical treatment and live independently in the community. The project will support mental health and substance abuse treatment for residents and program consumers, enhance clinical and management information systems, and assist the facility in developing capacity to conduct structured evaluations of the services. For information contact: Virginia Mason Medical Center, Bailey-Boushay House; 2720 East Madison Seattle, WA 98112; Ms. Leslie V. Ravensberg; Phone: (206) 720-3307 Fax: (206) 720-2299 E-mail: leslie.von.ravensberg@vmmc.org.

West Virginia

The State of West Virginia, Office of Economic Opportunity (OEO), will receive $1,085,928 of renewal funds for the continued operation of HOPWA assistance throughout the State. OEO is the supervising agent of a non-profit collaborative—the West Virginia Housing and Advocacy Coalition for People with AIDS, Inc. (Coalition), which consists of three partners: Covenant House, Inc. in Charleston; Caritas House, Inc. in Morgantown; and Community Networks, Inc. in Martinsburg. The Coalition is a statewide non-profit organization created to establish a comprehensive and effective delivery of services to a homeless population with special needs associated with living with HIV/AIDS. The HOPWA program initiatives provide housing, supportive services, technical assistance, and resource identification to people living with HIV/AIDS and their family members. This project funding includes the continued operation of five (5) houses in which people with HIV/AIDS live, and the continuation of services to a growing number of over 350 persons infected with HIV and their affected family and household members. For information contact: West Virginia Office of Economic Opportunity; 950 Kanawha Blvd. E. 3rd Floor Charleston, WV 25301. Mr. Essa R. Howard Director; Phone: (304) 558-8860 Fax: (304) 558-4210 E-mail: ehoward@oeo.state.wv.us.

Wisconsin

The AIDS Resource Center of Wisconsin will receive a HOPWA renewal grant for $1,218,576 to continue providing intensive housing case management, rent assistance, and supportive services to persons living with HIV disease and who are also diagnosed with chronic drug abuse or mental illness issues and residing anywhere in the state of Wisconsin. In it's first two years of operations, ARCW's programs served 134 clients and reduced homelessness, increased adherence to medical, mental health and substance abuse treatment, reduced criminal behavior, and improved access to other HIV services. This support improved the client's quality of life, increased independence and reduced utilization of emergency medical care. The renewal funding will serve 195 people living with HIV/AIDS and allow for a 28 percent increase in the number of clients to be served. For more information: AIDS Resource Center of Wisconsin; P.O. Box 92487 Milwaukee, WI 53202. Mr. Doug Nelson, Executive Director; Phone: (414) 273-1991; Fax: 414-273-2357; e-mail: doug.nelson@arcw.org.

FY 2001 HOPWA New Projects by State

Iowa

The Iowa Finance Authority (IFA) is receiving $1,370,000 in HOPWA funding to create the AIDS Housing Network of Iowa. IFA has partnered with AIDS service organizations and housing agencies across the state, including to Siouxland Community Health Center, AIDS Project of Central Iowa, American Red Cross Grant Wood Area Chapter (Rapids AIDS Project), Family Service League, Iowa Center for AIDS Resources and Education, and John Lewis Coffee Shop. Under this grant, eighty-four of Iowa's counties, including those counties with the highest percentage of AIDS cases, will be served with housing and related supportive services. The AIDS Housing Network of Iowa will provide housing assistance to 237 persons living with HIV/AIDS and their families through 218 units of housing. Housing assistance will be provided through a 150 on-going tenant-based rental assistance units and 68 short-term emergency assistance subsidies. Additionally, 177 persons will receive related supportive services to ensure housing stability. Through the assistance of the Iowa Coalition for Housing and the Homeless, technical assistance will be provided to project sponsors and assistance will be given to the AIDS Housing Network in the development of a long-term housing strategy to evaluate needs for persons with HIV/AIDS across the State of Iowa.

For information contact: The AIDS Housing Network of Iowa, c/o Iowa Finance Authority, 100 East Grand Ave., Suite 250, Des Moines, IA, 50309. Donna Davis, Deputy Director, and Director of Housing Programs-IFA; Phone: (515) 242-4990; E-mail: donna.davis@ifa.state.ia.us.

Montana (and North Dakota and South Dakota)

The State of Montana Department of Public Health and Human Services in conjunction with the States of South Dakota and North Dakota will receive $1,309,501 for a three-year project to create the TRI-STATE HELP, Housing Environments for Living Positively (TS HELP). TS HELP is a continuum of housing and related supportive services opportunities for people living with HIV/AIDS and their families serving all three states, which do not qualify for HOPWA formula funding. TS HELP is a partnership between one State agency and four private agencies in North Dakota, South Dakota, and Montana. Overall grant administration will be undertaken by the Montana Department of Public Health and Human Services. The Sioux Empire Red Cross in South Dakota, Missoula AIDS Council in Montana, Yellowstone AIDS Project in Montana, Community Action Program, and Region VII in North Dakota will serve as sponsors. The Montana Department of Public Health and Human Services will conduct an independent evaluation of program outcomes and AIDS Housing of Washington, HOPWA Technical Assistance provider, will conduct a statewide HIV/AIDS housing needs assessment. TS HELP will assist persons living with HIV/AIDS by strengthening and expanding HIV/AIDS housing and related supportive services by providing 70 tenant-based rental assistance subsidies, 70 emergency assistance subsidies and housing coordination services to an estimated 232 individuals living with HIV/AIDS and their families. A variety of additional services and resources will be available to 175 persons living with HIV/AIDS and their families through HOPWA funding and leveraged resources.

For information contact: State of Montana, Department of Public Health and Human Services, 1400 Carter Drive, Helena, MT, 59620. Jim Nolan, Project Coordinator; Phone:(406) 447-4260; e-mail: jnolan@state.mt.us.

Oregon

The Health Division of the State of Oregon is awarded $1,370,000 of HOPWA funding to create the Oregon Housing Opportunities in Partnership (OHOP) program. OHOP will serve all 31 Oregon counties that are outside of the Portland metropolitan statistical area (MSA), which receives HOPWA formula funding. OHOP is a partnership between two State and four private agencies. The State of Oregon Health Division will serve as grantee and will work in partnership with the Oregon Housing and Community Services Department, the HIV Alliance, the Central Oregon Community Action Agency Network, On Track and the Mid-Willamette Valley Community Action Agency. The University of Oregon at Eugene will conduct an independent evaluation of program outcomes. Through leveraged funds, AIDS Housing of Washington, a nationally recognized HIV/AIDS technical assistance provider, and Development Solutions Group, a private consulting firm specializing in affordable housing, will provide assistance relating to needs assessment and program implementation. OHOP will provide tenant-based rental assistance and housing coordination services to an estimated 225 eligible clients. Through a variety of additional services and resources 120 persons living with HIV/AIDS and their families will benefit through increase housing stability.

For information contact: Oregon Department of Human Services, Health Division, 800 NE Oregon Street, #21, Portland, OR 97232-2162. Victor J. Fox, HIV Client Services Manager; Phone: (503) 731-4029; FAX: (503) 731-4608; e-mail: victor.j.fox@state.or.us.

HOPWA Technical Assistance Supplementary: Additionally, HUD awarded $2.5 million to three applicants under the HOPWA Technical Assistance programs. The Purpose of the HOPWA Technical Assistance competition was to award grants that provide support from program operations. HUD established national goals for these funds: (1) Ensuring the sound management of HOPWA programs; and (2) targeting resources to underserved population.

FY 2001 Technical Assistance Awards by State

AIDS Housing of Washington

Under this award, AIDS Housing of Washington (AHW), based in Seattle, has been selected to receive $1,400,000 to continue the provision of National HOPWA Technical Assistance activities. AHW has provided assistance since 1995 and served as a pioneer in developing collaborations with housing and supportive services organizations for persons living with HIV/AIDS. AHW will continue its collaboration with Bailey House, Inc., (New York City), Abt Associates, the Corporation for Supportive Housing, and the AIDS Housing Corporation (Boston) and others to provide technical assistance to nonprofit organizations and State and local governments in planning, operating and evaluating housing assistance for persons who are living with HIV/AIDS and their families.

AHW will continue core assistance to help communities establish and enhance their comprehensive strategies for HIV/AIDS housing. In addition, the collaboration will promote the sound management and operation of HOPWA programs and coordinate evaluation activities that improve service delivery. In addition information services will help clients and communities better connect to available assistance and report on program accomplishments. This project adds a number of additional meetings and special initiatives to help assure that AHW and its partners meet the changing needs of HIV/AIDS housing providers and HOPWA grantees.

Through a new partnership with AIDS Alabama in Birmingham, AHW will launch a “Southern Initiative” that will bring all the skills, knowledge and resources of the National Technical Assistance Program to rural and urban southern parts of this country, with special emphasis on states comprising the lower Mississippi Delta. The desired outcome is to create permanent housing units dedicated to house persons living with HIV/AIDS and their families throughout the Southeast by networking with special needs housing agencies and support service delivery systems.

AHW also proposes to create eight to ten AIDS housing needs assessment plans, including four in the Southeastern States. The results of the needs assessment plans will help AHW in providing technical assistance on the full range of issues in AIDS housing planning, financing, development, operations, and program evaluation. Activities are being planned for a National HIV/AIDS Symposium in Summer 2002, a Fifth National HIV/AIDS Housing Conference in June 2003, and a National Meeting of HOPWA Formula Grantees in Fall 2003.

Outreach and education efforts will continue to be maintained and expanded on the World Wide Web site. AHW and its partners and subcontractors will research, and disseminate training resources and manuals on critical AIDS topics through the website database and existing curricula materials.

For information, contact: Donald Chamberlain, Director of Technical Assistance, AIDS Housing of Washington, 2014 East Madison Street, Suite 200,Seattle, Washington 98122, (206) 322-9444, (206) 322-9298 fax, e-mail: donald@aidshousing.org, www.aidshousing.org

Center for Urban Community Services, Inc.

The Center for Urban Community Services (CUCS), a non-profit organization based in New York City, received a National HOPWA Technical Assistance award of $400,000 to continue the provision of services throughout the country.

CUCS will continue the Housing Innovation Partnership to support sound management of AIDS housing programs. The partnership involves five sponsors: the Hudson Planning Group, a New York based provider that specializes in community based planning, knowledge of HUD programs and services, housing development for special needs populations, and financial management; the Corporation for Supportive Housing, a national intermediary organization with branch offices located in eight cities across the country has an array of skills in management operations of HUD programs, Lakefront SRO, a Chicago based operator of supportive SROs, with experience in supportive housing development, management with supportive services delivery; Barry University School of Social Work, located in Miami, which brings an understanding of the latest trends in academic theory and research; and Debbie Grieff Consulting, a Los Angeles based firm, brings substantial experience in supportive housing development and operations. Technical assistance training sessions recently were provided in the cities of New York, Chicago, Atlanta, Memphis, New Orleans and Raleigh-Durham under their FY1999 HOPWA technical assistance award.

Under this new grant, CUCS proposes to address these priority technical assistance needs: developing programs and services for people with multiple diagnosis; adapting programs to serve the changing needs of people living with the HIV; assisting providers in developing new housing services; strengthening the management of AIDS housing organizations and developing innovative solutions to maximize resources and ensure comprehensiveness. A series of Guidebooks will be produced on subjects related to HOPWA Program activities. Linkages with project sponsors throughout the country will be strengthened to coordinate on site delivery of technical assistance. Outreach and education opportunities will be increased with the operation of the CUCS “800” training /TA phone line which permits underserved populations and interested persons to raise housing issues as they occur and receive a one-on-one TA relationship. CUCS will continue to contact HUD field offices, persons living with HIV/AIDS, grantees, and project sponsors for insight in addressing housing and supportive services issues.

For information, contact: Suzanne Wagner, Director of Training and Technical Assistance, Center for Urban Community Services, 120 Wall Street, 25th Floor, New York, New York 10005, (800) 533-4449, (212) 801-3318, (212) 635-2191/fax, e-mail: suzannew@cucs.org, www.cucs.org

The Enterprise Foundation—Denver

Under this award for $100,000, the Denver Office of the Enterprise Foundation will support HOPWA projects in Colorado and other mountain States. Enterprise will make use of training and technical assistance materials, state-of-the art information technology, and hands-on assistance to transfer its expertise to community-based providers. In Denver, Enterprise will provide technical support to the City's Housing and Neighborhood Services Agency which manages HOPWA and Ryan White CARE Act funds in the Denver metropolitan area and collaborates with the City's HIV/AIDS Housing Advisory Committee. The support activities include training on:

• HOPWA program management, including development of effective client tracking systems, training on performance reporting and financial management; and development of program management handbooks.

• Cultural competency, such as training for service providers to enable more responsive and effective work with diverse client populations.

• Improved service coordination, particularly in helping residents access needed services from other mental health, drug and alcohol rehabilitation, and physical health service providers.

• Employment support, such as advice in developing effective back-to work programs that enable residents to start and continue working while addressing the health care issues that interfere with their ability to work on a regular schedule, or in certain occupations.

Enterprise will also assess support needed by nonprofits to improve financial and program management systems, and to strengthen collaborations among housing and other service providers. The assistance will be provided by Enterprise-Denver staff and consultants who have experience in strategic planning, organizational development, housing development and management, program management and supportive services for HIV/AIDS populations. Enterprise-Denver will also be supported by its national office in drawing upon a wide range of existing Enterprise tools and experience in the development and operation of affordable housing programs and community-based development.

For information, contact: Karen Lado, Director, Denver Office, The Enterprise Foundation, 1801 Williams Street, Suite 200, Denver, CO 80218, (303) 376-5410. William Frey, Interim President, The Enterprise Foundation, 10227 Wincopin Circle, Suite 500, Columbia, MD 21044, (410) 772-2422.

Total for all 22 Renewal Grants | $21,544,025
Total for 3 New Project Grants | 4,049,501
Total for 3 Technical Assistance Grants | 1,900,000
Total | 27,493,526

Dated: December 21, 2001.
Donna M. Abbenante,
General Deputy, Assistant Secretary for Community, Planning and Development.

[FR Doc. 01-32191 Filed 12-31-01; 8:45 am]

BILLING CODE 4210-29-P